DEPARTMENT OF COMMERCE

International Trade Administration

[A-565-801]

Stainless Steel Butt-Weld Pipe Fittings From the Philippines: Preliminary Results of Antidumping Duty Administrative Review and Preliminary Determination of No Shipments; 2021-2022

AGENCY: Enforcement and Compliance, International Trade Administration, Department of Commerce.

SUMMARY: The U.S. Department of Commerce (Commerce) preliminarily determines that there were no shipments of merchandise subject to the antidumping duty (AD) order on stainless steel butt-weld pipe fittings (SSBWF) from the Philippines during the period of review (POR) February 1, 2021, through January 31, 2022, from any of the companies under review. We invite interested parties to comment on these preliminary results.

DATES: Applicable November 7, 2022.

FOR FURTHER INFORMATION CONTACT: Mark Flessner, AD/CVD Operations, Office VI, Enforcement and Compliance, International Trade Administration, U.S. Department of Commerce, 1401 Constitution Avenue NW, Washington, DC 20230; telephone: (202) 482-6312.

SUPPLEMENTARY INFORMATION:

Background

On February 23, 2001, Commerce published the AD order on SSBWF from the Philippines in the Federal Register.¹ On February 8, 2022, we published a notice of opportunity to request an administrative review of the Order for the POR February 1, 2021, through January 31, 2022.² On February 28, 2022, Core Pipe Products, Inc. and Taylor Forge Stainless Inc. (collectively, the petitioners) timely requested an administrative review of the Order with respect to: E N Corporation (E N Corp.); Enlin Steel Corporation (Enlin); and Vinox Corporation (a/k/a Vinoc Corporation) (collectively, Vinox).³ On April 12, 2022, Commerce initiated an administrative review of these companies consistent with section 751(a)(1) of the Tariff Act of 1930, as amended (the Act).⁴

¹ See Antidumping Duty Orders: Stainless Steel Butt-Weld Pipe Fittings from Italy, Malaysia, and the Philippines, 66 FR 11257 (February 23, 2001) (Order).

² See Antidumping or Countervailing Duty Order, Finding, or Suspended Investigation; Opportunity To Request Administrative Review and Join Annual Inquiry Service List, 87 FR 7112 (February 8, 2022).

³ See Petitioners' Letter, “Stainless Steel Butt-Weld Pipe Fittings from the Philippines—Petitioners' Request for 2021/2022 Administrative Review,” dated February 28, 2022.

⁴ See Initiation of Antidumping and Countervailing Duty Administrative Reviews, 87 FR 21619 (April 12, 2022).

Commerce queried U.S. Customs and Border Protection (CBP) data to identify suspended entries of subject merchandise entered, or withdrawn from warehouse, for consumption during the POR from the companies under review. On April 18, 2022, Commerce placed the results of its CBP data query on the record.⁵ The CBP data show no suspended entries of subject merchandise during the POR associated with the companies under review.

⁵ See Memorandum, “Stainless Steel Butt-Weld Pipe Fittings from the Philippines; 2021-2022: Placement on the Record of Results of Inquiry to U.S. Customs and Border Protection,” dated April 18, 2022.

Commerce requested comments from interested parties on the CBP data.⁶ On April 25, 2022, the petitioners commented on the CBP data, alleging that entries during the POR could have been misreported; the petitioners provided information which, they contend, supports their allegation.⁷ Consequently, the petitioners requested that Commerce address evidence of evasion of the Order.⁸

⁶ Id.

⁷ See Petitioners' Letter, “Stainless Steel Butt-Weld Pipe Fittings from the Philippines; 2021-2022—Petitioners' Comments on CBP Data,” dated April 25, 2022, at 1-2 and Attachment.

⁸ Id. at 2-3.

Scope of the Order

For purposes of this Order, the product covered is certain stainless steel butt-weld pipe fittings (butt-weld fittings). Butt-weld pipe fittings are under 14 inches in outside diameter (based on nominal pipe size), whether finished or unfinished. The product encompasses all grades of stainless steel and “commodity” and “specialty” fittings. Specifically excluded from the definition are threaded, grooved, and bolted fittings, and fittings made from any material other than stainless steel. The butt-weld fittings subject to this order are generally designated under specification ASTM A403/A403M, the standard specification for Wrought Austenitic Stainless Steel Piping Fittings, or its foreign equivalents (e.g., DIN or JIS specifications). This specification covers two general classes of fittings, WP and CR, of wrought austenitic stainless steel fittings of seamless and welded construction covered by the latest revision of ANSI B16.9, ANSI B16.11, and ANSI B16.28. Butt-weld fittings manufactured to specification ASTM A774, or its foreign equivalents, are also covered by this Order.

This Order does not apply to cast fittings. Cast austenitic stainless steel pipe fittings are covered by specifications A351/A351M, A743/743M, and A744/A744M.

The butt-weld fittings subject to this Order are currently classifiable under subheadings 7307.23.00.30 and 7307.23.00.90 of the Harmonized Tariff Schedule of the United States (HTSUS). Although the HTSUS subheadings are provided for convenience and customs purposes, the written description of the scope of this Order is dispositive.

Methodology

As noted above, CBP data show that there were no suspended entries of subject merchandise during the POR associated with the three companies under review. Section 751(a)(2) of the Act instructs Commerce that, when conducting an administrative review, it is to determine the dumping margin for entries during the relevant period and establish a revised cash deposit rate for estimated ADs for future entries of subject merchandise. Given that the record evidence shows that there are no suspended entries of subject merchandise during the POR from the three companies under review, we have not calculated or otherwise determined a weighted-average dumping margin or revised the cash deposit rate for these three companies for which this administrative review was initiated.

Allegation of Misreported Entries

Commerce is committed to preventing the evasion of ADs and takes allegations, such as the one made by the petitioners, seriously. The issue raised by the petitioners falls within the jurisdiction of CBP and is best addressed by CBP.⁹ Consequently, Commerce referred this allegation of potential misclassification and/or fraud, and the evidence that the petitioners provided in support of their claim, by sending an Evasion Allegation Letter to CBP for investigation.¹⁰

⁹ See Globe Metallurgical Inc., v. United States, 722 F. Supp. 2d 1372, 1381 (CIT 2010); see also Light-Walled Rectangular Pipe and Tube from Turkey: Preliminary Results of Antidumping Duty Administrative Review; 2019-2020, 86 FR 18035, 18036 (April 7, 2021), unchanged in Light-Walled Rectangular Pipe and Tube from Turkey: Final Results of Antidumping Duty Administrative Review; 2019-2020, 86 FR 41440 (August 2, 2021).

¹⁰ See Commerce's Letter, “Stainless Steel Butt-Weld Pipe Fittings from the Philippines, 2021-2022 Administrative Review,” dated September 2, 2022 (Evasion Allegation Letter).

Preliminary Determination of No Shipments

Based on the foregoing, Commerce preliminarily determines that the following companies did not have any reviewable entries during the POR: E N Corp.; Enlin; and Vinox. Consistent with Commerce's practice, we are not rescinding the review with respect to E N Corp., Enlin, and Vinox, but, rather, will complete the review with respect to E N Corp., Enlin, and Vinox, and issue appropriate instructions to CBP based on the final results of this review.

Preliminary Results of Review

Commerce has not calculated weighted-average dumping margins for E N Corp., Enlin, and Vinox because there are no suspended entries of subject merchandise during the POR for these three companies on which to perform such a calculation.

Disclosure and Public Comment

Because Commerce has not calculated weighted-average dumping margins for these preliminary results, there are no calculations to disclose to interested parties.

Interested parties are invited to comment on these preliminary results of the review. Pursuant to 19 CFR 351.309(c)(1)(ii), interested parties may submit case briefs no later than 30 days after the date of publication of this notice in the Federal Register. Rebuttal briefs, limited to issues raised in the case briefs, may be filed no later than seven days after the deadline for filing case briefs.¹¹ Parties who submit case briefs or rebuttal briefs in this proceeding are encouraged to submit with each brief: (1) a statement of the issue; (2) a brief summary of the argument; and (3) a table of authorities.¹² Executive summaries should be limited to five pages total, including footnotes.¹³ Case and rebuttal briefs should be filed using Enforcement and Compliance's Antidumping and Countervailing Duty Centralized Electronic Service System (ACCESS).¹⁴ Note that Commerce has temporarily modified certain of its requirements for serving documents containing business proprietary information, until further notice.¹⁵

¹¹ See 19 CFR 351.309(d).

¹² See 19 CFR 351.309(c)(2) and (d)(2).

¹³ Id.

¹⁴ See 19 CFR 351.303.

¹⁵ See Temporary Rule Modifying AD/CVD Service Requirements Due to COVID-19; Extension of Effective Period, 85 FR 41363 (July 10, 2020).

Pursuant to 19 CFR 351.310(c), any interested party may request a hearing within 30 days of the date of publication of this notice in the Federal Register. Interested parties who wish to request a hearing must submit a written request to the Assistant Secretary for Enforcement and Compliance, filed electronically via ACCESS, by the deadline noted above. If a hearing is requested, Commerce will notify interested parties of the hearing date and time. Requests for a hearing should contain: (1) the requesting party's name, address, and telephone number; (2) the number of individuals from the requesting party's firm that will attend the hearing; and (3) a list of issues the party intends to discuss at the hearing. Issues raised in the hearing will be limited to those raised in the respective case and rebuttal briefs.

Unless we extend the deadline for the final results of this review, we intend to issue the final results of this administrative review, including the results of our analysis of issues raised by the parties in their briefs, within 120 days of the date of publication of this notice in the Federal Register.¹⁶

¹⁶ See section 751(a)(3)(A) of the Act; and 19 CFR 351.213(h)(1).

Assessment

Upon issuance of the final results, Commerce will determine, and CBP shall assess, ADs on all appropriate entries in accordance with 19 CFR 351.212(b)(1). For any entries found to be associated with the three companies under review, we will instruct CBP to liquidate such entries at the all-others rate if there is no rate for the intermediate company (or companies) involved in the transaction, consistent with Commerce's reseller policy.¹⁷

¹⁷ See Antidumping and Countervailing Duty Proceedings: Assessment of Antidumping Duties, 68 FR 23954 (May 6, 2003).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all entries of SSBWF from the Philippines entered, or withdrawn from warehouse, for consumption on or after the date of publication of the notice of the final results of this administrative review, as provided for by section 751(a)(2)(C) of the Act: (1) the cash deposit rate for the three companies under review will continue to be equal to the company-specific weighted-average dumping margin established for each company in the most recently completed segment of this proceeding (except, if the rate is de minimis, i.e., less than 0.5 percent, then the cash deposit will be zero percent) or, if a company-specific weighted-average dumping margin has not been established for the company, the cash deposit rate will continue to be equal to the all-others rate; (2) for merchandise exported by a company not covered in this review but covered in a prior completed segment of the proceeding, the cash deposit rate will continue to be the company-specific rate published for that company in the most recently completed segment of this proceeding in which the company was included; (3) if the exporter of the subject merchandise does not have its own rate but the producer has its own rate, the cash deposit rate will be the rate established in the most recently completed segment of the proceeding for the producer of the subject merchandise; and (4) the cash deposit rate for all other producers or exporters will continue to be 33.81 percent, the all-others rate established in the less-than-fair-value investigation.¹⁸

¹⁸ See Notice of Final Determination of Sales at Less Than Fair Value: Stainless Steel Butt-Weld Pipe Fittings from the Philippines, 65 FR 81823 (December 27, 2000).

These cash deposit requirements, when imposed, shall remain in effect until further notice.

Notification to Importers

This notice serves as a preliminary reminder to importers of their responsibility under 19 CFR 351.402(f)(2) to file a certificate regarding the reimbursement of antidumping and/or countervailing duties prior to liquidation of the relevant entries during this POR. Failure to comply with this requirement could result in Commerce's presumption that reimbursement of antidumping and/or countervailing duties occurred and the subsequent assessment of double antidumping duties.

Notification to Interested Parties

Commerce is issuing and publishing these results in accordance with sections 751(a)(1) and 777(i) of the Act, and 19 CFR 351.213(h)(1).

Dated: October 31, 2022.
Lisa W. Wang,
Assistant Secretary for Enforcement and Compliance.

[FR Doc. 2022-24167 Filed 11-4-22; 8:45 am]

BILLING CODE 3510-DS-P